FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 4, 2010.

A. Federal Reserve Bank of Minneapolis (Jacqueline G. King, Community Affairs Officer) 90 Hennepin Avenue, Minneapolis, Minnesota 55480-0291:

1. Hensley Family Limited Partnership, and its general partners, Jack L. Hensley and Connie D. Hensley, all of Kalispell, Montana; to retain control of Valley Bancshares, Inc., and thereby indirectly retain control of Valley Bank of Kalispell, both of Kalispell, Montana.

Board of Governors of the Federal Reserve System, May 17, 2010.
Margaret McCloskey Shanks,
Associate Secretary of the Board.

[FR Doc. 2010-12134 Filed 5-20-10; 8:45 am]

BILLING CODE 6210-01-S